DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Advanced Education Nursing Traineeship (AENT) and Nurse Anesthetist Traineeship (NAT): In Use Without Approval

The Health Resources and Services and Administration (HRSA) provides training grants to educational institutions to increase the numbers of advanced education nurses through the Advanced Education Nursing Traineeship (AENT) program and the Nurse Anesthetist Traineeship (NAT) program.

HRSA developed the AENT and NAT tables for the guidance applications for the two nursing traineeship programs. The AENT and NAT tables are used annually by grant applicants that are applying for AENT and NAT funding. The funds appropriated for the AENT and NAT programs are distributed among eligible institutions based on a formula. Award amounts are based on enrollment and graduate data reported on the tables and two funding factors (Statutory Funding Preference and Statutory Special Consideration) to those institutions which the criteria for one or both of the funding factors.

The AENT/NAT tables include information on program participants such as the number of enrollees, number of graduates and the types of programs they are enrolling into and/or from which they are graduating. These tables will be available electronically through Grants.gov. AENT and NAT applicants will have a single access point to submit their grant applications and AENT/NAT Traineeship tables.

Data from the tables will be used in the award determination and validation process. Additionally, the data will be used to ensure programmatic compliance, report to Congress and policymakers on the program accomplishments, and formulate and justify future budgets for these activities submitted to OMB and Congress.

The burden estimate for this project is as follows:

Form | Number of respondents | Responses per respondent | Total responses | Hours per response | Total burden hours
AENT | 500 | 1 | 500 | 1 | 500
NAT | 100 | 1 | 100 | 1 | 100
Total | 600 |  | 600 |  | 600

Written comments and recommendations concerning the proposed information collection should be sent within 30 days of this notice to: John Kraemer, Human Resources and Housing Branch, Office of Management and Budget, New Executive Office Building, Room 10235, Washington, DC 20503.

Dated: November 22, 2006.
Caroline Lewis,
Acting, Associate Administrator for Administration and Financial Management.

[FR Doc. E6-20531 Filed 12-4-06; 8:45 am]

BILLING CODE 4165-15-P